TENNESSEE VALLEY AUTHORITY

Hillsboro Solar Final Environmental Impact Statement

AGENCY: Tennessee Valley Authority.

ACTION: Record of decision.

SUMMARY: The Tennessee Valley Authority (TVA) has decided to adopt the preferred alternative identified in its final environmental impact statement (Final EIS; Document ID EISX-455-00-000-1729685595) for the Hillsboro Solar Project. The Final EIS was made available to the public on June 20, 2025. A Notice of Availability (NOA) of the Final EIS was published in the Federal Register on June 27, 2025 (90 FR 27538). TVA's preferred alternative, analyzed in the Final EIS as the Proposed Action Alternative, consists of TVA executing a power purchase agreement (PPA) with Hillsboro Solar, LLC (Hillsboro Solar), a wholly owned subsidiary of Urban Grid, to purchase power generated by the proposed 200-megawatt (MW) alternating current (AC) solar photovoltaic (PV) facility, which would occupy approximately 1,610 acres of a 3,779-acre Project Site, on the north side of U.S. Highway 72 Alternate/State Route 20 between Courtland and Hillsboro, Alabama. The facility would connect to TVA's existing adjacent Trinity-Nance 161-kilovolt (kV) transmission line (TL), proposed to be renamed Trinity-Brides Hill (Line [L]5832), that extends east-west through the Project Site. To interconnect to TVA's existing electrical grid, Hillsboro Solar, LLC would build a new on-site Hillsboro III Solar, AL 161-kV substation. This alternative would achieve the purpose and need of the Project to meet the demand for increased energy generation established in TVA's 2019 Integrated Resource Plan (IRP).

FOR FURTHER INFORMATION CONTACT: Elizabeth Smith, NEPA Project Manager, Tennessee Valley Authority, 400 West Summit Hill Drive, WT 11B Knoxville, TN 37902; telephone 865-632-3053; or email esmith14@tva.gov. To access and review the Final EIS, this Record of Decision (ROD), and other project documents, go to TVA's website at https://www.tva.gov/nepa.

SUPPLEMENTARY INFORMATION: This notice is provided in accordance with the National Environmental Policy Act (NEPA) and TVA's procedures (18 CFR 1318) for implementing NEPA. TVA is a corporate agency of the United States that provides electricity for business customers and local power distributors serving 10 million people in the Tennessee Valley—an 80,000-square-mile region comprised of Tennessee and parts of Virginia, North Carolina, Georgia, Alabama, Mississippi, and Kentucky. TVA receives no taxpayer funding and derives virtually all revenues from the sale of electricity. In addition to operating and investing revenues in its power system, TVA provides flood control, navigation, and land management for the Tennessee Valley watershed and provides economic development and job creation assistance within the TVA Power Service area.

In June 2019, TVA completed its 2019 IRP and associated EIS. The 2019 IRP identified the various resources that TVA intends to use to meet the energy needs of the TVA region over a 20-year planning period, while achieving TVA's objectives to deliver reliable, low-cost, and cleaner energy with fewer environmental impacts. The 2019 IRP anticipates growth of solar generating capacity in all scenarios analyzed, with most scenarios anticipating 5,000 to 8,000 MW and one anticipating up to 14,000 MW by 2038. The 2019 IRP remains valid and guides future generation planning consistent with least-cost planning principles.

TVA has prepared an EIS pursuant to NEPA to assess the environmental impacts of the Proposed Action to execute a PPA with Hillsboro Solar for TVA to purchase power generated by the proposed 200-MW AC solar PV facility, which would occupy approximately 1,610 acres of a 3,779-acre Project Site, on the north side of U.S. Highway 72 Alternate/State Route 20 between Courtland and Hillsboro, Alabama.

Alternatives Considered

TVA considered a no action and one action alternative in the Draft EIS and Final EIS.

No Action Alternative. Under the No Action Alternative, TVA would not execute the PPA with Hillsboro Solar to purchase the power generated by the Hillsboro Solar Project. Under the No Action Alternative, Hillsboro Solar would not develop, operate, maintain, and decommission a solar facility at this location, and TVA would meet renewable energy demand by other actions.

Proposed Action Alternative. Under the Proposed Action Alternative, TVA would execute the PPA with Hillsboro Solar, LLC to purchase power generated by the proposed 200-MW AC solar PV facility known as Hillsboro Solar Facility, which would occupy 1,610 acres of a 3,779-acre Project Site, on the north side of U.S. Highway 72 Alternate/State Route 20 between Courtland and Hillsboro, Alabama. The facility would connect to TVA's existing adjacent Trinity-Nance 161-kilovolt (kV) TL, proposed to be renamed Trinity-Brides Hill (Line [L]5832), that extends east-west through the Project Site. Under the PPA, Hillsboro Solar would construct, operate, and maintain Hillsboro Solar Facility for a 20-year period. At the end of the 20-year PPA, Hillsboro Solar would assess whether to cease operations at the solar facility or to replace equipment, if needed, and attempt to enter into a new PPA with TVA or make some other arrangement to sell the power.

Purpose and Need. The purpose and need of the Proposed Action is to provide cost effective renewable energy consistent with the 2019 IRP and in response to customer demand. TVA's preferred alternative for fulfilling its purpose and need is the Proposed Action Alternative, which would generate renewable energy for TVA and its customers with only minor to moderate environmental impacts due to the implementation of best management practices (BMPs) and minimization and mitigation efforts. Implementation of the Project would help TVA meet customer-driven energy demands on the TVA system.

Preferred Alternative

The No Action Alternative would result in the lowest level of environmental impacts as the impacts associated with construction and operation of the solar facility would not occur. However, the No Action Alternative does not meet the purpose and need for the project. Overall, environmental impacts associated with the Proposed Action Alternative would be minor to moderate with the implementation of BMPs and minimization and mitigation efforts. The Proposed Action could have minor adverse impacts to geology, soils, water quality, federally listed species, and utilities; minor to moderate adverse impacts to recreation and visual resources; moderate adverse impacts on land use; moderate to large adverse impacts to prime farmland and transportation; minor beneficial impacts to air quality; and short- to long-term moderate beneficial impacts to socioeconomics. The Project Site would be revegetated by planting a mixture of non-invasive, fast-growing annual species and long-lived perennial species. This would likely result in an increase in plant diversity over that of the cultivated cropland currently present on the site. Vegetation on developed portions of the Project Site would be maintained to control growth through occasional mowing. Beneficial effects to the economy associated with construction of the Project would be short-term and beneficial.

Construction of the Project would result in minor impacts to U.S. Army Corps of Engineers (USACE)-jurisdictional ephemeral streams and wetlands, non-USACE-jurisdictional ditches and open waters, and Alabama Department of Environmental Management (ADEM)-regulated wetlands for road crossings, solar panel arrays and solar panel blocks. These impacts would be permitted by Clean Water Act (CWA) Section 404/401 permits through USACE and ADEM, as applicable to the jurisdiction of these waters. In accordance with TVA requirements, minimum 50-foot-wide streamside management zones (SMZs) or avoidance buffers surrounding wetlands and intermittent and perennial streams would be established on the Project Site and would be maintained through avoidance measures.

The Project land use would change from agricultural, forested, and rural-residential land to industrial uses. To promote environmental stewardship and pollinator habitat along with clean, renewable energy, Hillsboro Solar, LLC would establish and maintain 50 acres of the Project Site as species-rich native plant meadow. These areas would be developed as several narrow strips surrounding or adjacent to the solar arrays that formerly supported croplands or in areas where trees were recently harvested. No forested land would be cleared to create the meadow zones.

Approximately 95 acres of forest that potentially provide high- to low-quality summer roosting habitat for endangered and threatened bats would be cleared during winter months (October 01 to March 14) to minimize direct impacts to both protected bat species and migratory birds. The TL upgrade work would be carried out in a manner to avoid impacts to endangered species. TVA has consulted with the U.S. Fish and Wildlife Service (USFWS) under Section 7 of the Endangered Species Act, and USFWS concurred with TVA's determination that the Project may affect but is not likely to adversely affect the federally listed gray bat, Indiana bat, or northern long-eared bat, and is not likely to jeopardize the continued existence of the tricolored bat or monarch butterfly, both proposed for listing under the Endangered Species Act. The Project would have no effect on the other federally listed species that were identified as having the potential to occur on or near the Project Site.

The Project would have an adverse effect on the Wheeler Station Rural Historic District (WSRHD); however, impacts would be minimized through appropriate mitigation included in the previously and newly executed Memorandum of Agreements (MOA) between TVA and Alabama Historic Commission (AHC). No adverse visual impacts are anticipated to the railroad segment associated with the Deas and Whiteley detachments of the Cherokee Trail of Tears or to the American Store, and no adverse visual and physical impacts are anticipated to Brides Hill or to the National Register of Historic Places-listed Wheeler Hydroelectric Project.

TVA consulted with the AHC and federally recognized Indian tribes under Section 106 of the National Historic Preservation Act regarding these findings, avoidance measures and MOA.

Public Involvement

On September 1, 2023, TVA published a Notice of Intent (NOI) in the Federal Register announcing plans to prepare an EIS to assess the potential environmental effects associated with constructing, operating, maintaining, and decommissioning the Hillsboro Solar Facility in Lawrence County, AL. The NOI initiated a 30-day public scoping period that concluded on October 2, 2023. The NOI solicited public input on the scope of the EIS and the environmental issues that should be considered in the EIS. During the public scoping period, TVA received comments from the National Park Service (NPS), the U.S. Environmental Protection Agency (USEPA), and four private individuals. Comments were related to alternatives; component sourcing; decommissioning and waste management; land use; soils and prime farmland; water resources; biological resources; natural areas, parks, and recreation; visual resources; cultural resources; socioeconomics; and impacts of reasonably foreseeable actions.

A Notice of Availability was released for the Draft EIS on January 17, 2025, in the Federal Register (90 FR 5877) initiating a 45-day public comment period, which ended on March 3, 2025. The availability of the Draft EIS was announced in regional and local newspapers serving the project area and on TVA's social media accounts. A news release was issued to the media and posted on TVA's website. The Draft EIS was posted on TVA's website, and hard copies were made available by request. During the public comment period, TVA held a public meeting on February 18, 2025, to describe the Project and address questions by the public at the RA Hubbard High School in North Courtland, AL. TVA accepted comments submitted through mail, email, a comment form on TVA's public website, and during the public meeting. TVA received 46 comments from the public and one comment from the USEPA for a total of 47 comments. TVA carefully reviewed the comments received and, where appropriate, revised text in the Final EIS. The NOA for the Final EIS was published in the Federal Register on June 27, 2025 (90 FR 27538).

Decision

TVA certifies, in accordance with 18 CFR 1318, that the agency has considered the alternatives, information, analyses, material in the record determined to be relevant, and submitted by State, Tribal, and local governments and public commenters for consideration in developing the Final EIS. TVA has decided to implement the preferred alternative of the EIS, which would result in the construction, operation, maintenance, and eventual decommissioning of the proposed solar PV facility, as well as the construction, operation, and maintenance of a substation and associated facilities to interconnect the solar PV facility to TVA's existing electrical transmission network. This alternative would achieve the purpose and need of the Project.

Mitigation Measures

Hillsboro Solar and TVA would employ standard practices and routine measures and other project-specific measures to avoid, minimize, and mitigate adverse impacts from implementation of the Proposed Action Alternative. Hillsboro Solar and TVA would also implement minimization and mitigation measures based on BMPs, permit requirements, and adherence to erosion and sediment control plans. Non-routine mitigation measures associated with land use and soils, biological, visual, and cultural resources:

• Land Use and Soils

○ Establish and maintain 50 acres of species-rich native plant meadow areas that would promote pollinators on the Project site; reduce erosion; and limit the spread of invasive species;

• Biological Resources

○ Minimize direct impacts to tree-roosting bats proposed for federal listing by implementing a 600-foot solar facility setback from known bat roost trees;

○ In areas requiring tree removal, clearing activities would be limited to the winter clearing window, October 1 through March 14, to minimize impacts to wildlife and protected species.

• Visual Resources

○ Implement a 300-foot solar facility setback from US 72A/SR20;

• Cultural

Provide a venue at the RA Hubbard Community Center's African American Heritage Gallery to display the previously developed WSRHD traveling exhibit ensuring the exhibit is interactive and accessible to a wide audience, including school groups and community members; develop and donate display cases to the RA Hubbard Center incorporating existing collections and relevant artifacts associated with the Hillsboro Solar Facility archaeological survey.

Dated: July 29, 2025.
Monika Beckner,
Vice President, Power Supply and Fuels, Tennessee Valley Authority.

[FR Doc. 2025-15163 Filed 8-7-25; 8:45 am]

BILLING CODE 8120-08-P